FEDERAL FINANCIAL INSTITUTIONS EXAMINATION COUNCIL

[Docket No. AS25-05]

Appraisal Subcommittee; Notice of Meeting

AGENCY: Appraisal Subcommittee of the Federal Financial Institutions Examination Council.

ACTION: Notice of special closed meeting.

Description: In accordance with section 1104(b) of title XI of the Financial Institutions Reform, Recovery, and Enforcement Act of 1989, codified at 12 U.S.C. 3333(b), notice is hereby given that the Appraisal Subcommittee (ASC) will meet for a Special Closed Meeting on this date.

Location: Virtual meeting via MS Teams

Date: May 23, 2025

Time: 11:00 a.m. ET

Matters To Be Considered

1. State Compliance Review

The ASC will convene a Special Closed Meeting to discuss a State Compliance Review pursuant to section 1104(b) of title XI (12 U.S.C. 3333(b)).

Loretta Schuster,
Management & Program Analyst.

[FR Doc. 2025-08874 Filed 5-16-25; 8:45 am]

BILLING CODE 6700-01-P